DEPARTMENT OF TRANSPORTATION

Office of the Secretary

Notice of Applications for Certificates of Public Convenience and Necessity and Foreign Air Carrier Permits Filed Under Subpart B (Formerly Subpart Q) During the Week Ending January 16, 2004

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-15095.

Date Filed: January 12, 2004.

Due Date for Answers, Conforming Applications, or Motion to Modify Scope: February 2, 2004.

Description: Amendment No. 1 of Sun D'or International Airlines, Ltd., to its application for a foreign air carrier permit, requesting charter foreign air transportation with wet-leased aircraft of persons, property, and mail between a point or points in Israel, on the one hand, and a point or points in the United States, on the other, either directly or via intermediate points, with or without stopovers and beyond, subject to the terms, conditions and limitations of the Department's regulations governing charters.

Andrea M. Jenkins,
Program Manager, Docket Operations, Federal Register Liaison.

[FR Doc. 04-1927 Filed 1-28-04; 8:45 am]

BILLING CODE 4910-62-P